DEPARTMENT OF ENERGY

Federal Energy Regulatory Commission

[Docket No. RP99-195-006]

Equitrans, L.P.; Notice of Surcharge Report

February 7, 2002.

Take notice that on January 29, 2002, Equitrans, L.P. (Equitrans) tendered for filing its Extraction Surcharge Report pursuant to Article II of the Stipulation and Agreement (Settlement) filed herein on November 1, 2000.

Equitrans states that the purpose of the filing is to report the amount collected during the period in which Equitrans is authorized by the Settlement to collect a surcharge for underrecovery of gas processing costs.

Any person desiring to protest said filing should file a protest with the Federal Energy Regulatory Commission, 888 First Street, NE., Washington, DC 20426, in accordance with section 385.211 of the Commission's rules and regulations. All such protests must be filed on or before February 14, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-3475 Filed 2-12-02; 8:45 am]

BILLING CODE 6717-01-P